DEPARTMENT OF DEFENSE

Department of the Army

Intent To Grant an Exclusive License for U.S. Government-Owned Invention

AGENCY: Department of the Army, DoD.

ACTION: Notice.

SUMMARY: In accordance with applicable laws and regulations, announcement is made of the intent to grant an exclusive, royalty-bearing, revocable license.

ADDRESSES: Commander, U.S. Army Medical Research and Materiel Command, ATTN: Director, Office of Research and Technology Applications, 1520 Freedman Drive, Suite 227, Fort Detrick, MD 21702-5012.

FOR FURTHER INFORMATION CONTACT: Dr. Paul Michaels, Office of Research & Technology Applications, (301) 619-4145. For patent issues, Ms. Elizabeth Arwine, Patent Attorney, (301) 619-7808, both at telefax (301) 619-5034.

SUPPLEMENTARY INFORMATION: In accordance with 35 U.S.C. 209 (e) and 37 CFR 404.7 (a)(1)(i), announcement is made of the intent to grant an exclusive, royalty-bearing, revocable license to United States Patent 8,501,926, issued August 6, 2013, entitled “Malaria Vaccine,” to The Johns Hopkins University, having its principal place of business at 3400 N Charles Street, Baltimore, MD 21218.

Anyone wishing to object to grant of this license can file written objections along with supporting evidence, if any, within 15 days from the date of this publication. Written objections are to be filed with the Director, Office of Research and Technology Applications (see ADDRESSES).

Brenda S. Bowen,
Army Federal Register Liaison Officer.

[FR Doc. 2019-05848 Filed 3-26-19; 8:45 am]

BILLING CODE 5001-03-P